FEDERAL ELECTION COMMISSION

Sunshine Act Meeting

* * * * *

Date and Time: Tuesday, July 20, 2004 at 10 a.m.

Place: 999 E Street, NW., Washington, DC

Status: This meeting will be closed to the public.

Items To Be Discussed: Compliance matters pursuant to 2 U.S.C. 437.

Audits conducted pursuant to 2 U.S.C. 437g, 438(b), and Title 26, U.S.C.

Matters concerning participation in civil actions or proceedings or arbitration.

Internal personnel rules and procedures or matters affecting a particular employee.

* * * * *

Date and Time: Thursday, July 22, 2004 at 10 a.m.

Place: 999 E Street, NW., Washington, DC (ninth floor)

Status: This meeting will be open to the public.

Items To Be Discussed: Correction and Approval of Minutes.

Advisory Opinion 224-19: DollarVote by Andrew W. Mitchell, President.

Advisory Opinion 2004-21: On Time Systems, Inc. by Matthew L. Ginsberg, Chief Executive Officer.

Advisory Opinion 2004-22: The Honorable Doug Bereuter, U.S. House of Representatives.

Routine Administrative Matters.

CONTACT FOR FURTHER INFORMATION: Mr. Robert Biersack, Acting Press Officer, Telephone: (202) 694-1220.

Mary W. Dove,
Secretary of the Commission.

[FR Doc. 04-16183 Filed 7-13-04; 8:45 am]

BILLING CODE 6715-01-M